DEPARTMENT OF COMMERCE

International Trade Administration

A-570-891

Hand Trucks and Certain Parts Thereof From the People's Republic of China; Initiation of New Shipper Review

AGENCY: Import Administration, International Trade Administration, Department of Commerce.

EFFECTIVE DATE: February 3, 2006.

SUMMARY: The Department of Commerce (“the Department”) has determined the request for a new shipper review of the antidumping duty order on hand trucks and certain parts thereof (“hand trucks”) from the People's Republic of China (“PRC”), received in December 2005, meets the statutory and regulatory requirements for initiation. The period of review (“POR”) of this new shipper review is May 24, 2004, through November 30, 2005.

FOR FURTHER INFORMATION CONTACT: Lilit Astvatsatrian, AD/CVD Operations, Office 8, Import Administration, International Trade Administration, U.S. Department of Commerce, 14th Street and Constitution Avenue, NW, Washington, DC 20230; telephone: (202) 482-6412.

SUPPLEMENTARY INFORMATION:

Background

The notice announcing the antidumping duty order on hand trucks from the PRC was published on December 2, 2004. See Antidumping Duty Order: Hand Trucks and Certain Parts Thereof From the People's Republic of China, 69 FR 70122 (December 2, 2004). On December 27, 2005, the Department received from Since Hardware (Guangzhou) Co., Ltd. (“Since Hardware”) a timely request for a new shipper review, in accordance with 19 CFR 351.214(d)(1).

Since Hardware certified that it produced and exported hand trucks on which it based its request for a new shipper review.

Initiation of New Shipper Reviews

Pursuant to section 751(a)(2)(B)(i)(I) of the Tariff Act of 1930, as amended (“the Act”), and 19 CFR 351.214(b)(2), Since Hardware certified that it did not export hand trucks to the United States during the period of investigation (“POI”). Pursuant to section 751(a)(2)(B)(i)(II) and 19 CFR 351.214(b)(2)(iii)(A), Since Hardware certified that, since the initiation of the investigation, they have not been affiliated with any exporter or producer who exported hand trucks to the United States during the POI, including those not individually examined during the investigation. As required by 19 CFR 351.214(b)(2)(iii)(B), Since Hardware also certified that its export activities are not controlled by the central government of the PRC, and provided a complete Section A response as supporting documentation.

In addition to the certifications described above, Since Hardware submitted documentation establishing the following: (1) The date on which it first shipped hand trucks for export to the United States and the date on which hand trucks were first entered, or withdrawn from warehouse, for consumption; (2) the volume of its first shipment and the volume of subsequent shipments; and (3) the date of its first sale to an unaffiliated customer in the United States.

Pursuant to section 751(a)(2)(B) of the Act and 19 CFR 351.214(d)(1), we are initiating a new shipper review for shipments of hand trucks from the PRC produced and exported by Since Hardware. See Memoranda to the File titled, “New Shipper Initiation Checklist” for Since Hardware, dated January 25, 2006.

The POR is May 24, 2004, through November 30, 2005. See 19 CFR 351.214(g)(1)(i)(A). We intend to issue preliminary results of this review no later than 180 days from the date of initiation, and final results of this review no later than 270 days from the date of initiation. See section 751(a)(2)(B)(iv) of the Act.

Because Since Hardware has certified that it produced and exported hand trucks on which it based its request for a new shipper review, we will instruct U.S. Customs and Border Protection to allow, at the option of the importer, the posting of a bond or security in lieu of a cash deposit for each entry of hand trucks both produced and exported by Since Hardware, until the completion of the new shipper review, pursuant to section 751(a)(2)(B)(iii) of the Act.

Interested parties that need access to proprietary information in this new shipper review should submit applications for disclosure under administrative protective order in accordance with 19 CFR 351.305 and 351.306.

This initiation and notice are in accordance with section 751(a)(2)(B) of the Act and 19 CFR 351.214 and 351.221(c)(1)(i).

Dated: January 30, 2006.
Stephen J. Claeys,
Deputy Assistant Secretary for Import Administration.

[FR Doc. E6-1505 Filed 2-2-06; 8:45 am]

(BILLING CODE 3510-DS-S)